ENVIRONMENTAL PROTECTION AGENCY

[FRL-7593-1]

Final Reissuance of a General NPDES Permit for Facilities Related to Oil and Gas Extraction on the North Slope of the Brooks Range, Alaska—Permit Number AKG-33-0000

AGENCY: Environmental Protection Agency.

ACTION: Final Notice of reissuance of a general permit.

SUMMARY: On April 10, 2002, the general permit (GP) regulating activities related to the extraction of oil and gas on the North Slope of the Brooks Range in the state of Alaska expired. On May 24, 2003, EPA proposed to reissue this GP. There was a 45 day comment period. During the comment period, EPA received 5 comment letters on the GP. A Response to Comments was prepared for the GP. The Response to Comments also addresses comments made on the Finding of No Significant Impact (FNSI) coverage under this GP for the new source facility, BP Exploration (Alaska), Inc.'s Badami. Upon submission of a new Notice of Intent (NOI), Badami will be reauthorized with the number AKG-33-0001. An NOI must be submitted before EPA will authorize coverage under this GP.

DATES: The GP will be effective January 2, 2004.

ADDRESSES: Copies of the GP and Response to Comments are available upon request. Written requests may be submitted to EPA, Region 10, 1200 Sixth Avenue OW-130, Seattle, WA 98101. Electronic requests may be mailed to: washington.audrey@epa.gov. or godsey.cindi@epa.gov.

FOR FURTHER INFORMATION CONTACT: Copies of the GP, Fact Sheet and Response to Comments are available upon request. Requests may be made to Audrey Washington at (206) 553-0523 or to Cindi Godsey at (907) 271-6561. Requests may also be electronically mailed to: washington.audrey@epa.gov or godsey.cindi@epa.gov

These documents may also be found on the EPA Region 10 Web site at www.epa.gov/r10earth/ then click on Water Quality, Permits (under NPDES) and then on recently issued permits under EPA Region 10 Information.

SUPPLEMENTARY INFORMATION:

Executive Order 12866

The Office of Management and Budget has exempted this action from the review requirements of Executive Order 12866 pursuant to Section 6 of that order.

The state of Alaska, Department of Environmental Conservation (ADEC), on November 19, 2003, has certified that the subject discharges comply with the applicable provisions of sections 208(e), 301, 302, 306 and 307 of the Clean Water Act.

The state of Alaska, Alaska Department of Natural Resources, Office of Project Management and Permitting (OPMP), has conducted a review for consistency with the Alaska Coastal Management Program (ACMP) and on July 22, 2003, agreed with EPA's determination that the general permit is consistent with the Alaska Coastal Management Program (ACMP).

Regulatory Flexibility Act

Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that this GP, as issued, will not have a significant economic impact on a substantial number of small entities.

Dated: November 20, 2003.
Robert R. Robichaud,
Acting Associate Director, Office of Water, Region 10, Environmental Protection Agency.

[FR Doc. 03-30046 Filed 12-2-03; 8:45 am]

BILLING CODE 6560-50-P